POSTAL SERVICE

United States Postal Service Board of Governors; Sunshine Act Meeting

Date and Times: Tuesday, April 12, 2005; 9 a.m. and 3 p.m.

Place: Washington, DC, at U.S. Postal Service Headquarters, 475 L'Enfant Plaza, SW., in the Benjamin Franklin Room.

Status: April 12-9 a.m. (Closed); 3 p.m. (Open).

Matters to be Considered:

Tuesday, April 12 at 9 a.m. (Closed)

1. Strategic Planning.

2. Financial Update.

3. Personnel Matters and Compensation Issues.

Tuesday, April 12 at 3 p.m. (Open)

1. Minutes of the Previous Meeting, February 16-17, 2005.

2. Remarks of the Postmaster General and CEO.

3. Committee Reports.

4. Business Connect.

5. Human Resources Update.

6. Tentative Agenda for the May 10-11, 2005, meeting at Atlanta, Georgia.

FOR FURTHER INFORMATION CONTACT: William T. Johnstone, Secretary of the Board, U.S. Postal Service, 475 L'Enfant Plaza, SW., Washington, DC 20260-1000. Telephone (202) 268-4800.

William T. Johnstone,
Secretary.

[FR Doc. 05-6739 Filed 3-31-05; 4:41 pm]

BILLING CODE 7710-12-M